DEPARTMENT OF TRANSPORTATION

Federal Aviation Administration

14 CFR Part 5

[Docket No. FAA-2009-0671; Amdt. No. 5-1A]

RIN 2120-AJ86

Safety Management System for Domestic, Flag and Supplemental Operations Certificate Holders; Technical Amendment

AGENCY: Federal Aviation Administration, DOT.

ACTION: Final rule; technical amendment.

SUMMARY: This technical amendment corrects an error in the final rule titled Safety Management System for Domestic, Flag and Supplemental Operations Certificate Holders, published on January 8, 2015. In that rule, the FAA amended its regulations to require air carriers conducting domestic, flag and supplemental operations to put a safety management system (SMS) in place by 2018.

DATES: This rule is effective May 25, 2017.

FOR FURTHER INFORMATION CONTACT: Scott Van Buren, Chief System Engineer for Aviation Safety, Office of Accident Investigation and Prevention (AVP), Federal Aviation Administration, 800 Independence Avenue SW., Washington, DC 20591; telephone: (202) 494-8417; facsimile: (202) 267-3992; email: scott.vanburen@faa.gov.

SUPPLEMENTARY INFORMATION:

Good Cause for Immediate Adoption Without Prior Notice

Section 553(b)(3)(B) of the Administrative Procedure Act (APA) (5 U.S.C. 551 et seq.) authorizes agencies to dispense with notice and comment procedures for rules when the agency for “good cause” finds that those procedures are “impracticable, unnecessary, or contrary to the public interest.” Under this section, an agency, upon finding good cause, may issue a final rule without seeking comment prior to the rulemaking.

Section 553(d)(3) of the Administrative Procedure Act requires that agencies publish a rule not less than 30 days before its effective date, except as otherwise provided by the agency for good cause found and published with the rule.

This technical amendment corrects an erroneous cross-reference in § 5.71(a)(6). This correction will not impose any additional restrictions on the persons affected by these regulations. Furthermore, any additional delay in making the regulations correct would be contrary to the public interest because it would allow an error in the FAA's regulations to persist for a longer period of time. Accordingly, the FAA finds that (i) public comment on these standards prior to promulgation is unnecessary, and (ii) good cause exists to make this rule effective in less than 30 days.

Background

In the final rule titled Safety Management System for Domestic, Flag and Supplemental Operations Certificate Holders, published on January 8, 2015 (80 FR1308), the FAA required air carriers operating under part 121 to develop and implement a safety management system (SMS) to improve the safety of its aviation-related activities. This rule is found in title 14 of the Code of Federal Regulations, part 5. Part 5 consists of six subparts: Subparts A through F.

Section 5.71(a)(6) requires a certificate holder to develop and maintain processes and systems to monitor potential non-compliance with safety risk controls developed through the safety risk management process. The safety risk management process is set out in Subpart C of part 5, but § 5.71(a)(6) erroneously cross-references Subpart B of part 5. Accordingly, this amendment corrects the cross-reference in § 5.71(a)(6) to refer to Subpart C of part 5.

Technical Amendment

The technical amendment corrects § 5.71(a)(6) so that it references Subpart C instead of Subpart B of part 5.

List of Subjects in 14 CFR Part 5

Air carriers, Aircraft, Airmen, Aviation Safety, Reporting and recordkeeping requirements, Safety and transportation.

The Amendment

In consideration of the foregoing, the Federal Aviation Administration amends chapter I of title 14, Code of Federal Regulations as follows:

PART 5—SAFETY MANAGEMENT SYSTEMS

1. The authority citation for part 5 continues to read as follows:

Authority: Pub. L. 111-216, sec. 215 (Aug.1, 2010); 49 U.S.C. 106(f), 106(g), 40101,40113, 40119, 41706, 44101, 44701-44702, 44705, 44709-44711, 44713, 44716-44717, 44722, 46105.

§ 5.71 [Amended]

2. In § 5.71, paragraph (a)(6), remove the reference “subpart B” and add, in its place, the reference “subpart C”.

Issued under the authority provided by 49 U.S.C. 106(f), 44701(a)(5) and Sec. 215 of Public Law 111-216, 124 Stat. 2350 (49 U.S.C. 44701 note) in Washington, DC, on May 18, 2017.
Lirio Liu,
Director, Office of Rulemaking.

[FR Doc. 2017-10739 Filed 5-24-17; 8:45 am]

BILLING CODE 4910-13-P